DEPARTMENT OF STATE

[Delegation of Authority 287]

Delegation by the Under Secretary of State for Management to Frank J. Coulter of Authorities Normally Vested in the Assistant Secretary for Administration

By virtue of the authority vested in me as Under Secretary for Management by the laws of the United States and by delegation, including Delegation of Authority No. 198 from the Secretary of State, I hereby delegate to Frank J. Coulter, to the extent authorized by law, all authorities vested in the Assistant Secretary for Administration, including all authorities that have been or may be delegated or re-delegated to the Assistant Secretary for Administration.

Any act, executive order, regulation, or procedure subject to, or affected by, this delegation shall be deemed to be such act, executive order, regulation, or procedure as amended from time to time.

This delegation shall enter into effect upon signature and shall expire upon the appointment and entry upon duty of a new Assistant Secretary for Administration.

This delegation of authority shall be published in the Federal Register.

Dated: January 4, 2006.
Henrietta H. Fore,
Under Secretary for Management, Department of State.

[FR Doc. E6-568 Filed 1-18-06; 8:45 am]

BILLING CODE 4710-35-P